DEPARTMENT OF LABOR

Employment and Training Administration

[TA-W-40,054]

Fairchild Semiconductor; Formerly Known as Intersil Corporation, Mountaintop, PA; Amended Certification Regarding Eligibility To Apply for Worker Adjustment Assistance

In accordance with section 223 of the Trade Act of 1974 (19 USC 2273) the Department of Labor issued a Certification of Eligibility to Apply for Worker Adjustment Assistance on November 30, 2001, applicable to workers of Fairchild Semiconductor, Mountaintop, Pennsylvania. The notice was published in the Federal Register on December 26, 2001 (66 FR 66428).

At the request of the company, the Department reviewed the certification for workers of the subject firm. The workers are engaged in the production of computer chips.

The company reports that in March, 2001, Fairchild Semiconductor purchased the Mountaintop, Pennsylvania location of Intersil Corporation and is now known as Fairchild Semiconductor, formerly known as Intersil Corporation.

Information also shows that workers separated from employment at the subject firm, had their wages reported under a separate unemployment insurance (US) tax account for Fairchild Semiconductor, formerly known as Intersil Corporation.

Accordingly, the Department is amending the certification determination to properly reflect this matter.

The intent of the Department's certification is to include all workers of Fairchild Semiconductor, formerly known as Intersil Corporation, Mountaintop, Pennsylvania who were adversely affected by increased imports.

The amended notice applicable to TA-W-40,054 is hereby issued as follows:

All workers of Fairchild Semiconductor, formerly known as Intersil Corporation, Mountaintop, Pennsylvania, engaged in the production of computer chips, who became totally or partially separated from employment on or after September 2, 2000, through November 30, 2003, are eligible to apply for adjustment assistance under section 223 of the Trade Act of 1974.

Signed at Washington, DC this 4th day of January, 2002.
Linda G. Poole,
Certifying Officer, Division of Trade Adjustment Assistance.

[FR Doc. 02-9742 Filed 4-19-02; 8:45 am]

BILLING CODE 4510-30-M